DEPARTMENT OF THE INTERIOR

Bureau of Land Management

[AA-8102-05, AA-8102-08, AA-8102-10, AA-8102-25, AA-8102-28, AA-8102-37, AA-8102-47; LLAK965000-L14100000-KC0000-P]

Alaska Native Claims Selection

AGENCY: Bureau of Land Management, Interior.

ACTION: Notice of decision approving lands for conveyance.

SUMMARY: As required by 43 CFR 2650.7(d), notice is hereby given that the Bureau of Land Management (BLM) will issue an appealable decision to Koniag, Inc.

DATES: Any party claiming a property interest in the lands affected by the decision may appeal the decision within the following time limits:

1. Unknown parties, parties unable to be located after reasonable efforts have been expended to locate, parties who fail or refuse to sign their return receipt, and parties who receive a copy of the decision by regular mail which is not certified, return receipt requested, shall have until April 25, 2011 to file an appeal.

2. Parties receiving service of the decision by certified mail shall have 30 days from the date of receipt to file an appeal.

3. Notices of appeal transmitted by electronic means, such as facsimile or e-mail, will not be accepted as timely filed.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The BLM by phone at 907-271-5960, by e-mail at ak.blm.conveyance@blm.gov, or by telecommunication device (TTD) through the Federal Information Relay Service (FIRS) at 1-800-877-8339, 24 hours a day, 7 days a week.

SUPPLEMENTARY INFORMATION: This decision approves conveyance of the subsurface estate of oil and gas and sand and gravel used in connection with prospecting for, extracting, storing, or removing oil and gas in the lands described below, pursuant to the Alaska Native Claims Settlement Act and the Alaska National Interest Lands Conservation Act. The lands are located on the Alaska Peninsula and are described as:

Seward Meridian, Alaska

T. 29 S., R. 43 W.,

Sec. 31.

Containing approximately 612 acres.

T. 30 S., R. 43 W.,

Secs. 5 to 8, inclusive.

Containing approximately 2,509 acres.

T. 29 S., R. 44 W.,

Secs. 25, 26, 35, and 36.

Containing approximately 2,560 acres.

T. 30 S., R. 44 W.,

Secs. 1 to 4, inclusive;

Secs. 8 to 12, inclusive;

Secs. 14 to 17, inclusive;

Secs. 19 to 23, inclusive;

Secs. 27 to 34, inclusive.

Containing approximately 16,579 acres.

T. 31 S., R. 44 W.,

Secs. 4 to 9, inclusive;

Secs. 17 and 18.

Containing approximately 5,073 acres.

T. 30 S., R. 45 W.,

Secs. 35 and 36.

Containing approximately 1,280 acres.

T. 31 S., R. 45 W.,

Secs. 1 and 2;

Secs. 10 to 16, inclusive.

Containing approximately 5,760 acres.

T. 37 S., R. 50 W.,

Secs. 1 to 24, inclusive;

Secs. 27 to 33, inclusive.

Containing approximately 20,784 acres.

T. 38 S., R. 50 W.,

Secs. 4 to 9, inclusive;

Secs. 16 to 21, inclusive;

Secs. 28 to 33, inclusive.

Containing approximately 11,388 acres.

T. 39 S., R. 50 W.,

Secs. 4, 5, and 6.

Containing approximately 1,903 acres.

T. 38 S., R. 51 W.,

Secs. 6, 7, 8, and 11;

Secs. 14 to 17, inclusive;

Secs. 19 to 23, inclusive;

Secs. 26 to 32, inclusive;

Secs. 34, 35, and 36.

Containing approximately 11,769 acres.

T. 38 S., R. 52 W.,

Sec. 36.

Containing approximately 630 acres.

T. 40 S., R. 52 W.,

Sec. 5.

Containing approximately 640 acres.

Aggregating approximately 81,487 acres.

Notice of the decision will also be published four times in the Kodiak Daily Mirror.

Eileen Ford,
Land Transfer Resolution Specialist, Land Transfer Adjudication II Branch.

[FR Doc. 2011-6999 Filed 3-24-11; 8:45 am]

BILLING CODE 4310-JA-P